DEPARTMENT OF COMMERCE

National Oceanic and Atmospheric Administration

50 CFR Part 648

[Docket No. 251208-0181]

RIN 0648-BN40

Magnuson-Stevens Act Provisions; Fisheries of the Northeastern United States; Fisheries of the Northeastern United States; 2025-2027 Atlantic Herring Fishery Specifications

AGENCY: National Marine Fisheries Service (NMFS), National Oceanic and Atmospheric Administration (NOAA), Commerce.

ACTION: Final specifications.

SUMMARY: NMFS approves and implements 2025-2027 specifications and river herring and shad catch caps for the Atlantic herring fishery, as recommended by the New England Fishery Management Council. This action also updates the target rebuilding date for Atlantic herring. This action is necessary to respond to updated scientific information from a 2024 Atlantic herring management track assessment and to achieve the objectives of the Atlantic Herring Fishery Management Plan, including preventing overfishing, helping rebuild an overfished stock, and achieving optimum yield on a continuing basis.

DATES: Effective December 11, 2025.

ADDRESSES: Copies of the 2025-2027 herring specifications action, including the Supplemental Information Report (SIR) and the Regulatory Impact Review (RIR) prepared by the New England Fishery Management Council in support of this action, are available from Dr. Cate O'Keefe, Executive Director, New England Fishery Management Council, 50 Water Street, Mill 2, Newburyport, MA 01950. These documents are also accessible via the internet at https://www.nefmc.org/management-plans/herring.

Copies of the small entity compliance guide are available from Michael Pentony, Regional Administrator, NMFS, Greater Atlantic Regional Fisheries Office, 55 Great Republic Drive, Gloucester, MA 01930-2298, or available on the internet at https://www.greateratlantic.fisheries.noaa.gov.

FOR FURTHER INFORMATION CONTACT: Carrie Nordeen, Fishery Policy Analyst, 978-281-9272.

SUPPLEMENTARY INFORMATION:

Background

NMFS and the New England Fishery Management Council (Council) manage the Atlantic herring fishery pursuant to the Magnuson-Stevens Fishery Conservation and Management Act (Magnuson-Stevens Act), the Atlantic Herring Fishery Management Plan (FMP), and regulations implementing the FMP located at 50 CFR part 648, subpart K.

This action relieves a restriction by increasing herring annual catch limits (ACL) by 68 percent for 2025 and by 237 percent for 2026 and 2027, compared to the current 2025 ACL. In 2023, the most recent year for which complete data are available, the herring fishery generated $5.61 million in revenue. This action projects up to an additional $1.56 million in revenue available for 2025 and an additional $5.25 million in revenue available for both 2026 and 2027, compared to revenue associated with the current 2025 herring ACL.

The regulatory process to propose, approve, and implement herring specifications is described at § 648.200. First, the Council recommends herring specifications to NMFS for its review, including: The overfishing limit (OFL); acceptable biological catch (ABC); ACL; optimum yield (OY); domestic annual harvest; domestic annual processing; U.S. at-sea processing; border transfer; management area sub-ACLs, including seasonal periods as allowed by § 648.201(d) and modifications to sub-ACLs as allowed by § 648.201(f); the amount of research and fixed gear set aside; and river herring and shad catch caps. Next, NMFS reviews the Council's recommended specifications and publishes proposed specifications in the Federal Register, describing its evaluation of the specifications and whether or not the proposed specifications are consistent with the Council's recommendations. During this time, NMFS seeks public comment on the proposed herring specifications and whether they are consistent with the FMP, the Magnuson-Stevens Act and its National Standards, and other applicable law. Following the close of the comment period on the proposed specifications, NMFS evaluates the public comments and determines whether to approve the proposed specifications. Lastly, NMFS implements the approved specifications, as well as any changes to the proposed specifications, by publishing them in the Federal Register.

A 2024 herring management track stock assessment (2024 stock assessment) was completed in June 2024. According to the results of the 2024 stock assessment, the stock continues to be overfished with overfishing not occurring. Retrospective pattern adjustments were necessary because the model overestimated biomass and underestimated mortality. The adjusted spawning stock biomass was estimated to be 26 percent (47,955 metric tons (mt)) of the biomass (B) to support maximum sustainable yield (BMSY) (186,367 mt) and the adjusted fishing mortality rate (F) was estimated to be 58 percent (0.263) of the overfishing threshold (FMSY equals 0.45). The 2024 stock assessment was unable to explain a cause for the stock's historic and continued low recruitment and projected that continued poor recruitment of herring would likely result in a substantial decline in biomass.

Original catch projections from the 2024 stock assessment indicated the need for an almost 90-percent reduction from the previously projected 2025 ACL (23,961 mt) (88 FR 17397; March 23, 2023) to an updated 2025 ACL (2,710 mt). The Council acknowledged that herring harvest needed to be reduced to prevent overfishing and rebuild the stock and, at its September 2024 meeting, requested NMFS use its in-season adjustment authority described in the herring regulations at § 648.200(e) to reduce the 2025 specifications before the start of the fishing year on January 1 to prevent catch from exceeding new, lower limits. NMFS concurred with the Council's request to reduce herring harvest to prevent overfishing and rebuild the stock and, therefore, published 2025 in-season changes on December 19, 2024 (89 FR 103695), that implemented the reduced 2025 specifications.

Original catch projections from the 2024 stock assessment were based on the assumption that the 2024 ABC (23,409 mt) would be fully harvested. However, in January 2025, preliminary 2024 herring catch data became available indicating that the amount of herring harvested in 2024 was much lower than what was assumed in the original projections. Based on preliminary herring catch, NMFS estimated only 51 percent of the 2024 herring ACL (10,315 mt of 20,141 mt) was harvested. Updated catch projections from the 2024 stock assessment indicated that less catch in 2024 allows for higher catch limits in 2025 and beyond, while still achieving the FMP's goals of preventing overfishing and rebuilding the stock.

At its April 2025 meeting, the Council reviewed and adopted its Scientific and Statistical Committee's (SSC's) OFL and ABC recommendations for 2025-2027 based on the updated catch projections from the 2024 stock assessment, with one exception. In response to the uncertainty around catch projection increases, especially in 2027, the Council recommended that the projected 2027 OFL remain consistent with catch projections, but that all other projected specification values for 2027 be held constant at 2026 levels. The Council also noted that the 2027 specifications would likely be replaced following the next management track stock assessment currently scheduled for 2026. The Council's approach uses the most recent and best scientific information available, while acknowledging the uncertainty around catch projection increases.

After carefully considering the Council's recommendations for 2025-2027 specifications for the herring fishery, NMFS preliminary determined it concurred with the Council's recommendations pending public comment. NMFS published the proposed specifications in the Federal Register on June 25, 2025 (90 FR 26955), and solicited public input on whether the proposed specifications were consistent with the FMP, the Magnuson-Stevens Act and its National Standards, and other applicable law. Following the close of the public comment period on July 10, 2025, NMFS reviewed all public comments and concluded that the proposed herring specifications are consistent with the FMP and all applicable law. Through this final rule, NMFS approves and implements the Council's recommended new 2025 herring specifications and projected specifications for 2026-2027 pursuant to section 305(d) of the Magnuson-Stevens Act, which authorizes the Secretary of Commerce to implement management measures necessary to carry out an approved FMP.

Approved Specifications

This action sets new 2025 herring specifications and projects herring specifications for 2026-2027 based on the ABC control rule developed in Amendment 8 to the FMP (86 FR 1810; January 11, 2021). These specifications are consistent with recommendations by the Council, based on the best scientific information available, and intended to achieve the objectives of the FMP, including preventing overfishing, helping rebuild an overfished stock, and achieving OY on a continuing basis. As specified at § 648.200(a)(2), the Council may annually review these specifications and recommend adjustments if necessary. The current, new, and projected specifications are shown in table 1.

Table 1—Current, New, and Projected Atlantic Herring Specifications
Specifications | Current (mt): 2025 | New (mt): 2025 | Projected (mt): 2026 | Projected (mt): 2027
Overfishing Limit | 18,273 | 20,802 | 23,491 | 31,075
Acceptable Biological Catch | 6,741 | 8,587 | 13,165 | 13,165
Management Uncertainty * | ** 4,031 | ** 4,031 | 4,031 | 4,031
Annual Catch Limit/Optimum Yield * | ** 2,710 | ** 4,556 | 9,134 | 9,134
Domestic Annual Harvest | 2,710 | 4,556 | 9,134 | 9,134
Border Transfer | 0 | 0 | 0 | 0
Domestic Annual Processing | 2,710 | 4,556 | 9,134 | 9,134
US At-Sea Processing | 0 | 0 | 0 | 0
Area 1A Sub-ACL (28.9%) * | ** 783 | ** 1,317 | 2,640 | 2,640
Area 1B Sub-ACL (4.3%) | 117 | 196 | 393 | 393
Area 2 Sub-ACL (27.8%) | 753 | 1,267 | 2,539 | 2,539
Area 3 Sub-ACL (39%) | 1,057 | 1,777 | 3,562 | 3,562
Fixed Gear Set-Aside | 30 | 30 | 30 | 30
Research Set-Aside | 0% | 0% | 0% | 0%
* If New Brunswick weir landings are less than 2,600 mt through October 1, then 1,000 mt will be subtracted from the management uncertainty and reallocated to the Area 1A sub-ACL and the ACL.
** In 2025, NMFS determined that New Brunswick weir landings were less than 2,600 mt through October 1. Therefore, effective November 17, 2025, NMFS subtracted 1,000 mt from the “current” 2025 management uncertainty and reallocated it to the “current” 2025 Area 1A sub-ACL and ACL (90 FR 51570; November 18, 2025). The resulting effect on the “current” 2025 specifications was as follows, the management uncertainty equaled 3,031 mt, the Area 1A sub-ACL equaled 1,783 mt, and the ACL equaled 3,710 mt. Additionally, the effect of this change as applied to the “new” 2025 specifications is as follows, the management uncertainty equals 3,031 mt, the Area 1A sub-ACL equals 2,317 mt, and the ACL equals 5,556 mt.

Status of Rebuilding Plan

This action revises the target rebuilding date for Atlantic herring from 2028 to 2031. Framework 9 to the FMP (87 FR 42962; July 19, 2022) established a rebuilding plan for herring that became effective in August 2022. The rebuilding plan was expected to rebuild the stock by 2026; however, the target rebuilding date was extended from 5 years (2026) to 7 years (2028) with implementation of the 2023-2025 herring specifications (88 FR 17397; March 23, 2023). Both the original and updated projections from the 2024 stock assessment indicate the herring stock is no longer likely to rebuild by 2028, but it could rebuild by 2031. The revised target rebuilding date for herring reflects the results of the 2024 stock assessment and falls within the 10-year rebuilding period required under the Magnuson-Stevens Act.

Approved River Herring and Shad Catch Caps

This action maintains the current river herring and shad catch caps for 2025 and projects the current catch caps for 2026-2027. Herring regulations at § 648.200(b)(6) provide for river herring and shad catch caps by gear and area. Catch caps are intended to provide an incentive for the herring fleet to continue to avoid river herring and shad catch, while allowing the fleet to fully harvest the Atlantic herring OY. The Council is reconsidering river herring and shad management in Amendment 10 to the FMP; therefore, this action maintains the current catch caps during its reconsideration. The current and projected river herring and shad catch caps are shown in table 2.

Table 2—Maintaining Current River Herring and Shad Catch Caps
Catch cap | Current (mt): 2025 | Projected (mt): 2026 | Projected (mt): 2027
Gulf of Maine Midwater Trawl | 76.7 | 76.7 | 76.7
Cape Cod Midwater Trawl | 32.4 | 32.4 | 32.4
Southern New England Midwater Trawl | 129.6 | 129.6 | 129.6
Southern New England Bottom Trawl | 122.3 | 122.3 | 122.3

Comments and Responses

NMFS received eight comment letters in response to the proposed rule seeking public comment on the proposed 2025-2027 herring specifications including letters from members of the general public, a letter from a member of the herring fishing industry, a letter from the Wampanoag Tribe of Gay Head (Aquinnah) (hereinafter Tribe), and a joint letter from several non-government organizations (NGOs) (i.e., Conservation Law Foundation, Earthjustice, National Resources Defense Council, Oceana). Comments related to other fishery management actions or general fishery management practices are not addressed here.

A summary of comments and NMFS responses is presented below:

Comment 1: Two commenters support the proposed 2025-2027 herring specifications because they believe the proposed specifications reflect a careful, science-based approach that balances ecological sustainability of the stock with the economic needs of Northeast fishing communities. One commenter stated that the proposed specifications are informed by the most recent stock assessments, help ensure the long-term health of the herring population while allowing for a sustainable harvest, and recognize herring's important ecosystem role as forage. One commenter noted herring catch limits are reduced from limits in past years because the size of the herring stock is only about 25 percent of size needed to support MSY and no action could lead to a closed fishery and economic hardship. One commenter explained that the new and projected harvest limits are aligned with conservation needs, but also provide important revenue for New England commercial fisheries and coastal fishing communities. Additionally, both commenters support the revised Atlantic herring target rebuilding date of 2031, because it is supported by science and aligned with management objectives, and one commenter noted that the revised target rebuilding date is consistent with Magnuson-Stevens Act timeline requirements.

Response: NMFS agrees with the commenters and is implementing the proposed 2025-2027 herring specifications and revised Atlantic herring rebuilding timeline without any changes.

Comment 2: A commenter supports maintaining the current river herring and shad catch caps for the herring fishery because they believe the catch caps are vital for protecting river herring and shad. The commenter asserted that river herring and shad populations are vulnerable and that they experience pressure from habitat loss and climate change. By enforcing the catch caps, the commenter explained that NMFS supports biodiversity and prevents the unintended harvest of non-target species.

Response: River herring and shad catch caps are intended to provide an incentive for the herring fleet to continue to avoid and minimize river herring and shad incidental catch and bycatch, while allowing the fleet to fully harvest the Atlantic herring OY. The catch caps help minimize the unintended harvest of non-target species to the extent practicable and, therefore, the specifications maintain the current river herring and shad catch caps for 2025-2027.

Comment 3: A commenter expressed concern that inserting a carryover ban in § 648.201 that references only the 2025 and 2026 fishing years creates confusion regarding overage and carryover rules. The commenter explained it is unclear whether carryover automatically resumes in 2027 or stays suspended indefinitely. Additionally, the commenter contended that because existing regulations for administering overages and carryover are not revised for 2025 and 2026, stakeholders are forced to navigate multiple sub-paragraphs (they cite § 648.201(g)(1) and (g)(3)-(5)) to understand the 2025 and 2026 provisions.

Response: NMFS disagrees that the specific references to the 2025 and 2026 fishing years is confusing. A general rule applies unless there is an express exception or it is otherwise withdrawn or replaced. The current carryover provision, described at § 648.201(g)(1), generally requires carryover of unharvested catch in any appropriate subsequent year as instructed in the rule without a reference to any particular calendar year. This ensures that in the absence of a specific exception, carryover of unharvested catch will be applied in any year consistent with § 648.201(g)(1)'s general mandate. In other words, the general rule will be applied as instructed, unless there is an express exception, or the rule is otherwise withdrawn by a future action.

In this action, NMFS added an express exception to the general requirement that applies only to the 2025 and 2026 fishing years, as recommended by the Council and stated in the rule. The proposed rule explained that carryover had the potential to increase the 2025 and 2026 sub-ACLs up to an additional 20 percent. In an effort to better support the FMP's conservation and management objectives, the Council recommended that no unharvested catch should be carried over and added to any management area sub-ACL for 2025 and 2026, and NMFS concurred.

To help simplify and streamline the herring regulations, NMFS added the new carryover exception at paragraph (g)(2) so it is in the same paragraph as the current carryover provisions. Paragraphs (g)(3)-(5) described by the commenter do not exist. Stakeholders looking for carryover requirements are able to find all the carryover provision in § 648.201(g)(1)-(2). Additionally, NMFS listed only 2025 and 2026 in the regulatory text to clearly specify that the carryover exception applies only to those years. Unless revised in a subsequent action, NMFS would resume administering the carryover of unharvested catch for 2027 and beyond.

The commenter expressed concern that existing regulations for administering overages were not revised for 2025 and 2026, making it difficult to understand overage rules for 2025 and 2026. As described in the proposed rule, catch overages in prior years (i.e., 2023 and 2024) were not large enough to require deductions in 2025 or 2026. This action does not affect or revise any aspect of how NMFS administers overages, for 2025, 2026, or any year; therefore, the regulations regarding overages at § 648.201(a)(3) were not revised as part of this action.

Comment 4: A commenter raised issues relating to the provision at § 648.201(h) specifying that if NMFS determines that the New Brunswick weir fishery landed less than 2,600 mt of herring through October 1, NMFS will subtract 1,000 mt from management uncertainty and reallocate that 1,000 mt to the ACL and Area 1A sub-ACL. The provision also specifies that NMFS will notify the Council of the management uncertainty adjustment and publish the adjustment in the Federal Register. The commenter asserted that because the provision does not specify a calendar or fishing year, that harvesters and regulators are left guessing about the time period for the reallocation of quota to the ACL and Area 1 sub-ACL. The commenter also contended the provision should specify a firm Federal Register publication timeline to anchor industry planning. Lastly, the commenter expressed concern that the term “management uncertainty” is defined only in the preamble to the proposed rule and that in the absence of a regulatory definition, there may be conflicting interpretations about the origin and purpose of the deduction.

Response: This action sets new 2025 herring specifications and projects herring specifications for 2026-2027. The herring fishing year mirrors the calendar year, beginning on January 1 and ending on December 31; herring specifications apply for the duration of each year, unless subsequently adjusted. As described in the proposed rule, the ACL is set by reducing the ABC by management uncertainty. Management uncertainty, defined at § 648.200(b)(3), includes, but is not limited to, expected catch of herring in the New Brunswick weir fishery and the uncertainty around discard estimates of herring caught in Federal and state waters. Management uncertainty and the provision at § 648.201(h), which conditionally adjusts management uncertainty, also apply for the duration of each year. Because this provision currently applies to every year, its regulatory text does not specify a particular year or years, otherwise the regulatory text describing a specific year would need to be continually updated. Table 1 in this final rule provides a summary of the herring specifications for 2025-2027, including the provision to adjust management uncertainty across the bottom of the table as a helpful reminder to stakeholders that this provision applies to 2025-2027.

The provision at § 648.201(h) specifies NMFS will notify the Council if it adjusts management uncertainty and will publish the adjustment in the Federal Register. The regulation intentionally does not specify a timeframe for publication or implementation because NMFS has no certainty of when it will receive the necessary data or when it will publish the notice adjusting management uncertainty. NMFS uses New Brunswick weir data from January 1 through October 1 to determine if landings are below the specified threshold to reduce management uncertainty and reallocate that quota to the ACL and Area 1A sub-ACL. NMFS obtains New Brunswick weir data from Canada's Department of Fisheries and Oceans (DFO). NMFS does not have any control over DFO or its data, and the timing of receiving DFO data can be uncertain. Once NMFS determines if catch is low enough to reduce and reallocate management uncertainty, the timing around drafting a notice, getting agency review and clearance, and getting the notice published in the Federal Register is also uncertain. The process for NMFS to evaluate and adjust management uncertainty, if warranted, has become a routine, expected aspect of the herring fishery for industry members and communities that rely on herring. For these reasons, NMFS works closely with management partners and stakeholders to publish the notice in the Federal Register as soon after October 1 as possible, but it does not codify a timeframe in regulation.

Comment 5: One member of the herring fishing industry urged the Council to research the latest data and reports from fishermen about the increased amounts of herring they are seeing and revisit the sub-ACL for Area 1A in 2025. The commenter explained how the recent gradually-increasing catch limits have allowed the herring stock to rebuild, they described increased herring sightings along the coast of Maine, and advocated for raising 2025 herring catch limits higher than 2024 catch limits.

Response: This action is necessary to respond to updated scientific information from a 2024 stock assessment and to prevent overfishing and help rebuild the overfished stock. As described in the proposed rule, the herring biomass was estimated to be much lower in the 2024 stock assessment than it was in the 2022 assessment (47,955 mt and 79,231 mt, respectively). In December 2024, in response to catch projections from the 2024 stock assessment and at the request of the Council, NMFS used its in-season adjustment authority to reduce the 2025 ACL by almost 90 percent from the previously projected 2025 ACL (23,961 mt reduced to 2,710 mt) to prevent overfishing and help rebuild the stock. While this action increases the 2025 herring ACL (2,710 mt to 4,556 mt) based on updated catch projections, the new 2025 ACL is substantially lower than the 2024 ACL (20,141 mt) in order to prevent overfishing and help rebuild the stock. As specified at § 648.200(a)(2), the Council may annually review these specifications and recommend adjustments if necessary. The next herring stock assessment is currently scheduled for 2026.

Comment 6: A commenter noted that there was a typographical error in the proposed regulations at § 648.201(g)(2). Specifically, that there was an extra period after paragraph (g)(2).

Response: NMFS corrects that typographical error in this final rule.

Comment 7: A commenter asserted that the proposed specifications do not seem to align with reported data since 2023, they stated more research is needed to confirm the data and determine if actionable metrics are required, and they recommended considering data and fishery specifications for future research and development.

Response: NMFS is unclear which data and metrics the commenter is referencing, but because the herring specifications are based on the best available scientific data and the herring stock assessments continue to consider a wide range of data and metrics, NMFS does not think any action is necessary at this time.

Comment 8: The comment letter from the Tribe stated it was prudent to extend the herring target rebuilding date from 2028 to 2031 and prohibit the carryover of unharvested catch in 2025 and 2026.

Response: NMFS concurs.

Comment 9: Comment letters from the Tribe and the NGOs both expressed concern with the proposed river herring and shad catch caps. The Tribe contended that the large caps for Southern New England (i.e., over 120 mt for both bottom and midwater trawl) are ineffective and recommended maintaining the current 2025 sub-ACLs for Areas 2 and 3 during 2025-2027 to minimize river herring catch. The NGOs cautioned that implementing flawed catch caps will not provide the necessary incentive for the herring industry to avoid river herring and shad or minimize bycatch consistent with National Standard 9. They asserted that river herring and shad have been mismanaged in the past five years, highlighting a perceived mismatch between Atlantic herring ACLs and river herring and shad catch caps because catch cap values have not been reduced in tandem with herring ACLs. Additionally, the NGOs stated that without stringent catch caps, the decline of river herring and shad is exacerbated and efforts to rebuild their population undermined.

Response: NMFS disagrees with these comments. River herring and shad are typically caught incidentally and retained in the Atlantic herring fishery, rather than discarded as bycatch. River herring and shad catch caps were established in Framework 3 to the FMP (79 FR 71960; December 4, 2014) as a means to control and/or limit river herring and shad catch in the Atlantic herring fishery. Catch cap values are based on historical catch of river herring and shad before the implementation of catch caps. Catch cap values were not designed to fluctuate up and down with the herring ACL. A new method to determine catch caps values would need to be developed, if the values are intended to fluctuate with the Atlantic herring ACL. The catch caps provide an incentive for the fishing industry to continue to avoid river herring and shad interactions, and they are a proactive measure intended to manage and minimize river herring and shad catch, to the extent practicable, while allowing the Atlantic herring fishery to fully utilize the OY, if river herring and shad can be avoided.

Atlantic herring ACLs, as well as the associated fishing effort and catch, are historically low, reducing the likelihood of incidentally catching river herring and shad. In the past 5 years, the average Atlantic herring ACL was about 11,000 mt and the average fishery utilization of the ACL was less than 80 percent. Additionally, the average fishery utilization of the sub-ACL in Area 2 during that time, an area that corresponds to the Southern New England catch caps, was even lower at an average of only 14 percent. Despite low ACLs, river herring and shad catch triggered closures for midwater trawl vessels fishing off Cape Cod in April 2023 and January 2024. These closures suggest that catch caps are still operating as intended and that catch caps are effective tools to help minimize the incidental catch of river herring and shad, which is consistent with National Standard 9. The Council is considering management measures to address the catch of river herring and shad in the Atlantic herring fishery, including catch caps and/or closed areas, in Amendment 10 to the FMP. Work on Amendment 10 has been temporarily paused for 2025, but Amendment 10 is currently on the Council's list of work priorities for 2026. For all the reasons described, it is appropriate for NMFS to maintain the current river herring and shad catch caps, especially given the Council's ongoing consideration of river herring and shad management.

Comment 10: The comment letter from the NGOs encouraged NMFS to disapprove the 2025-2027 herring specifications because otherwise NMFS risks further depleting the herring stock and jeopardizing the broader marine ecosystem that relies on herring as forage. The NGOs also contended that increasing the ACL for 2025 decreased the likelihood that the stock will rebuild by 2031. Additionally, the NGOs asserted that the probability the herring stock will rebuild by 2031 barely meets minimum rebuilding requirements and extending the target rebuilding date to 2031 is inconsistent with the Magnuson-Stevens Act requirement to rebuild a stock within a timeframe as short as possible.

Response: NMFS disagrees with these comments. According to catch projections from the 2024 stock assessment, increasing the ACL for 2025 has no meaningful impact on rebuilding by 2031. There is only a 0.1 percent decrease in the probability of rebuilding by 2031 under the new 2025 ACL (50.7 percent), compared to the probability of rebuilding under the current 2025 ACL (50.8 percent). The National Standard 1 guidelines explain that rebuilding means at least a 50-percent probability of attaining BMSY. The year 2031 is the earliest year, according to catch projections from the 2024 stock assessment, for which the probability of rebuilding exceeds 50 percent. Therefore, referencing the 50.7-percent probability that the herring stock will rebuild by 2031 is consistent with rebuilding guidelines.

The Atlantic herring rebuilding plan was implemented in Framework 9 with an effective date of August 2022. Even though this action extends the target rebuilding date to 2031, the rebuilding period is still within the 10-year rebuilding timeframe specified in the Magnuson-Stevens Act. One of the factors to be considered during rebuilding is the needs of fishing communities. This action projects up to an additional $1.56 million in revenue available for 2025 and up to an additional $5.25 million in revenue available for 2026 and 2027, compared to revenue associated with the current 2025 ACL. This additional revenue is vital to support the fishing industries and fishing communities that rely on herring, consistent with National Standard 1.

NMFS approves and implements the Council's recommended new 2025 herring specifications and projected specifications for 2026-2027 because NMFS determined they represent the most recent and best scientific information available and are consistent with the FMP and applicable law. These specifications respond to updated scientific information from the 2024 Atlantic herring management track assessment in order to achieve the objectives of the FMP, including preventing overfishing, helping rebuild an overfished stock, and achieving OY on a continuing basis. These specifications are based on the ABC control rule developed in Amendment 8, one specifically designed to account for herring's role as forage in the ecosystem, and on recommendations by the Council's SSC. These herring specifications balance ecological and economic needs to support the goal of the FMP, managing the fishery at long-term sustainable levels.

Changes From the Proposed Rule

One of the comment letters noted a typographical error in the proposed regulations at § 648.201(g)(2). Specifically, that there was an extra period after paragraph (g)(2). NMFS corrects that typographical error in this final rule.

Classification

NMFS is issuing this rule pursuant to section 305(d) of the Magnuson-Stevens Act. In a previous action taken pursuant to section 304(b), the regulations at 50 CFR 648.200 provide the procedures by which NMFS takes this action under Magnuson-Stevens Act section 305(d). The NMFS Assistant Administrator has determined that this final rule is consistent with the Atlantic Herring FMP, National Standards and other provisions of the Magnuson-Stevens Act, and other applicable law. This action relieves a restriction by increasing the 2025 herring ACL by 68 percent compared to the current ACL and, therefore, it is not subject to the 30-day delayed effectiveness provision of the Administrative Procedure Act pursuant to 5 U.S.C. 553(d)(1). NMFS reduced the 2025 herring specifications in December 2024 (89 FR 103695; December 19, 2024) to prevent overfishing and help rebuild the stock based on catch projections from the 2024 stock assessment. However, the original 2024 stock assessment catch projections were based on the assumption that the 2024 herring ABC (23,409 mt) would be fully harvested and preliminary 2024 catch data available in January 2025 indicated only 51 percent of the 2024 herring ACL (10,315 mt of 20,141 mt) was harvested. Updated catch projections from the 2024 stock assessment indicated that less catch in 2024 allows for higher catch limits in 2025 and beyond, while still achieving the FMP's goals of preventing overfishing and rebuilding the stock. The summer herring fishery in Management Area 1A typically begins in July. Any delay in implementing this action past the summer fishery may hinder the fishing industry's ability to fully harvest the higher 2025 OY, potentially causing the fishing industry to forgo the additional $1.56 million in revenue associated with the higher OY. Further, the fishing industry does not need a 30-day delay in effectiveness to prepare for and respond to the increased ACL, instead the industry would simply continue its 2025 fishing operations.

This final rule has been determined to be not significant for purposes of Executive Order 12866.

This final rule is not an Executive Order 14192 regulatory action because this final rule is not significant under Executive Order 12866.

This final rule contains no information collection requirements under the Paperwork Reduction Act of 1995.

A final regulatory flexibility analysis (FRFA) was prepared. The FRFA incorporates the initial regulatory flexibility analysis (IRFA), a summary of the significant issues raised by the public comments in response to the IRFA, NMFS responses to those comments, and a summary of the analyses completed to support the action. A summary of the analysis follows. A copy of this analysis is available from the Council (see ADDRESSES).

A Summary of the Significant Issues Raised by the Public in Response to the IRFA, a Summary of the Agency's Assessment of Such Issues, and a Statement of Any Changes Made in the Final Rule as a Result of Such Comments

NMFS received eight comment letters on the proposed rule. Those comments, and NMFS' responses, are contained in the Comments and Responses section of this final rule and are not repeated here. None of the comments addressed the IRFA, and NMFS did not make any substantive changes in the final rule based on public comment.

Description and Estimate of Number of Small Entities to Which This Final Rule Would Apply

The directly-regulated entities are the firms that currently hold at least one Atlantic herring permit (i.e., Categories A, B, C, D, or E). The RFA recognizes three kinds of small entities: small businesses; small organizations; and small governmental jurisdictions. Herring-permitted vessels may hold permits for several fisheries, harvesting species of fish that are regulated by several different fishery management plans, even beyond those affected by the proposed action. Furthermore, multiple permitted vessels and/or permits may be owned by entities with various personal and business affiliations.

Table 3—Number and Characterization of Directly-Regulated Entities and Average Revenue From 2019-2023
Size | Type | Firms | Vessels | Average gross receipts | Average herring receipts
Small | Fishing | 739 | 1,174 | $831,00 | $7,000
Small | For Hire | 138 | 178 | 215,000 | 0
Large | Fishing | 10 | 135 | 19,094,000 | 98,000
Source: NMFS.

Table 3 indicates there are many small firms with herring permits, but that revenue from herring is only a small percentage of their total revenue. This may be because these firms hold only a Category D open access permit with a low herring possession limit (6,600 lb (3,000 kg)) or that these firms are not active in the herring fishery. The herring fishery has had historically low ACLs since 2018. Some firms have stopped participating in the fishery, but continue to hold herring permits to preserve the option to fish.

Table 4—Number and Characterization of Directly-Regulated, Small Entities Active in the Atlantic Herring Fishery and Average Revenue From 2019-2023
Size | Type | Firms | Vessels | Average gross receipts | Average herring receipts
Small | Fishing | 29 | 61 | $1,510,000 | $171,000
Source: NMFS.

Table 4 describes a subset of the directly-regulated, small entities that hold a Limited Access Permit (i.e., Categories A, B, C) or an Open Access Areas ⅔ Permit (i.e., Category E) and participated in the herring fishery between 2019 and 2023. The small firms identified in table 4 are the firms most likely to be affected by this final rule. Because there are fewer than three directly-regulated, large entities, data confidentiality requirements prevent those data from being included.

Description of Projected Reporting, Recordkeeping, and Other Compliance Requirements

This final rule does not introduce any new reporting, recordkeeping, or other compliance requirements.

Description of the Steps the Agency Has Taken To Minimize the Significant Economic Impact on Small Entities Consistent With the Stated Objectives of Applicable Statutes

The 2025-2027 herring specifications implemented with this final rule relieve a restriction by increasing the herring ACL compared to the current 2025 ACL. The current 2025 ACL (2,710 mt) is the lowest ACL on record for the herring fishery. In comparison, the new ACL for 2025 (4,556 mt) is 68-percent higher than the current ACL and the projected ACLs for 2026-2027 (9,134 mt) are 237-percent higher than the current ACL. The 2025-2027 herring specifications implemented in this final rule are consistent with applicable statutes and minimize any significant economic impact on small entities.

Table 5—Projected Landings, Prices, and Revenue for 2025-2027
Year | Landings (mt) | Price * | Revenue **: Proposed ACL | Revenue **: Amount of increase compared to current ACL
2025 | 4,556 | $862 | $3,925,000 | $1,560,000
2026 | 9,134 | 834 | 7,618,000 | 5,253,000
2027 | 9,134 | 834 | 7,618,000 | 5,253,000
* Price is based on real 2023 US dollars per mt.
** Revenue is based on real 2023 US dollars.
Source: NMFS.

Table 5 projects an additional $1.56 million in revenue available for 2025 and an additional $5.25 million in revenue available for 2026 and 2027, compared to revenue associated with the current 2025 ACL. As described previously, it is likely that the projected 2027 specifications would be replaced following the 2026 stock assessment.

Despite increases to the ACLs, the SIR for the 2025-2027 herring specifications concluded the impacts of this action on herring fishery-related businesses and communities would likely remain negative. Despite moderate ACL increases, this action would continue the period of substantially reduced catch limits implemented in 2019. The low ACL and corresponding sub-ACLs would likely lead to continued low fishing effort, which could have negative social and economic impacts in fishing communities and for stakeholders directly or indirectly reliant on the herring fishery. Users of fresh herring as bait may need to switch to an alternative supply (e.g., frozen herring bait or menhaden). Additionally, this action could prevent larger vessels from participating in the fishery altogether, resulting in a potential loss of jobs for crew and adverse community impacts (e.g., reduced spending on ice, fuel, cold storage, other supplies). There is no significant alternative to this action that accomplishes the objectives of applicable statutes and minimizes any significant economic impact on small entities.

For the 2025-2027 river herring and shad catch caps, this action maintains the values, gears, and areas for the catch caps that were originally implemented in 2016. There is no significant alternative to this action that accomplishes the objectives of applicable statutes and minimizes any significant economic impact on small entities.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, a bulletin to permit holders that also serves as small entity compliance guide was prepared. This final rule and the guide (i.e., bulletin) will be sent via email to the Greater Atlantic Regional Fisheries Office Atlantic herring email list and are available on the website at: https://www.fisheries.noaa.gov/species/atlantic-herring/management. Hard copies of the guide and this final rule will be available upon request (see ADDRESSES).

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

List of Subjects in 50 CFR Part 648

Fisheries, Fishing, Recordkeeping and reporting requirements.

Dated: December 8, 2025.
Samuel D. Rauch III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. In § 648.201, add paragraph (g)(2) and revise paragraph (h) to read as follows:

§ 648.201 AMs and harvest controls.

* * * * *

(g) * * *

(2) No unharvested catch will be carried over and added to any management area sub-ACL for the 2025 and 2026 fishing years.

(h) If NMFS determines that the New Brunswick weir fishery landed less than 2,600 mt of herring through October 1, NMFS will subtract 1,000 mt from management uncertainty and reallocate that 1,000 mt to the ACL and Area 1A sub-ACL. NMFS will notify the Council of this adjustment and publish the adjustment in the Federal Register.

[FR Doc. 2025-22545 Filed 12-10-25; 8:45 am]

BILLING CODE 3510-22-P